DEPARTMENT OF ENERGY

Federal Energy Regulatory Commission

[Docket No. RP03-29-002]

CenterPoint Energy Gas Transmission Company; Notice of Compliance Filing

January 8, 2003.

Take notice that on January 6, 2003, CenterPoint Energy Gas Transmission Company (CEGT) tendered for filing as part of its FERC Gas Tariff, Fifth Revised Volume No. 1, Substitute First Revised Sheet No. 461, to be effective November 17, 2002.

CEGT states that the purpose of this filing is to reflect a pagination correction associated with its November 20th compliance filing in this docket.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 21, 2003.

Magalie R. Salas,
Secretary.

[FR Doc. 03-754 Filed 1-13-03; 8:45 am]

BILLING CODE 6717-01-P